DEPARTMENT OF TRANSPORTATION

National Highway Traffic Safety Administration

[Docket No. NHTSA-2004-18973; Notice 1]

Michelin North America, Inc., Receipt of Petition for Decision of Inconsequential Noncompliance

Michelin North America, Inc. (Michelin) has determined that the sidewall markings on certain tires that it manufactured in 1993 through 2004 do not comply with S6.5(d) of 49 CFR 571.119, Federal Motor Vehicle Safety Standard (FMVSS) No. 119, “New pneumatic tires for vehicles other than passenger cars.” Michelin has filed an appropriate report pursuant to 49 CFR Part 573, “Defect and Noncompliance Reports.”

Pursuant to 49 U.S.C. 30118(d) and 30120(h), Michelin has petitioned for an exemption from the notification and remedy requirements of 49 U.S.C. Chapter 301 on the basis that this noncompliance is inconsequential to motor vehicle safety.

This notice of receipt of Michelin's petition is published under 49 U.S.C. 30118 and 30120 and does not represent any agency decision or other exercise of judgment concerning the merits of the petition.

A total of approximately 97,468 tires are affected. This includes approximately 68,950 Michelin tires consisting of 24,644 LT215/85R16 XPS Rib; 35,934 LT225/75R16 XPS Rib; 5,348 LT215/85R16 XPS Traction; and 3,024 8.75R16.5 XPS Rib tires manufactured from May 1, 2003 through the week beginning July 12, 2004. It also includes 28,518 Michelin 8.75R16.5 XPS Rib tires manufactured from approximately mid-1993 through the week beginning July 12, 2004. The sidewall load and inflation markings of these two groups of tires do not comply with S6.5(d), “Tire markings.” S6.5(d) requires that each tire shall be marked on each sidewall with “[t]he maximum load rating and corresponding inflation pressure of the tire” in both metric and English units.

The sidewall load and inflation markings on the 68,950 tires manufactured from May 1, 2003 through the week beginning July 12, 2004 are in English units only and do not have the metric units required by S6.5(d). The sidewall load and inflation markings on the 28,518 tires manufactured from approximately mid-1993 through the week beginning July 12, 2004 are incorrect for the Max. Load Dual category; the tires are marked “2550 lbs at 75 psi” when they should be marked “2405 lbs at 80 psi.”

Michelin believes that the noncompliance is inconsequential to motor vehicle safety and that no corrective action is warranted. With regard to the tires that are marked in English units only, Michelin states that the tires are manufactured for sale in the U.S. replacement market where the English system is universally comprehended, and the maximum load expressed in “lbs.” and air pressure expressed in “psi” will not confuse U.S. vehicle owners, nor result in unsafe use of the tires in terms of load or inflation values. With regard to the tires that are marked with the incorrect Max. Load Dual load and inflation, Michelin asserts that

“[w]hen both single and dual loads are marked on the tire (as is the case here), FMVSS No. 119 requires that performance compliance testing be done based on the single (higher, more punishing) tire load. Accordingly, the incorrect dual load marking is inconsequential for this tire * * * Even at the lower, more punishing pressure of 75 psi, the tire meets all FMVSS No. 119 minimum performance requirements.”

Michelin states that these tires meet or exceed all of the performance requirements of FMVSS No. 119.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: October 14, 2004.

Authority: 49 U.S.C. 30118, 30120: delegations of authority at CFR 1.50 and 501.8.

Issued on: September 8, 2004.
Kenneth N. Weinstein,
Associate Administrator for Enforcement.

[FR Doc. 04-20626 Filed 9-13-04; 8:45 am]

BILLING CODE 4910-59-P